DEPARTMENT OF COMMERCE

International Trade Administration

[A-427-818]

Low Enriched Uranium From France: Final Results of Antidumping Duty Changed Circumstances Review

AGENCY: Import Administration, International Trade Administration, Department of Commerce.

SUMMARY: The Department published the preliminary results of a changed circumstances review of the antidumping duty order on low enriched uranium (LEU) from France on February 10, 2012,¹ in which the Department preliminarily determined that it is appropriate to issue, for this entry only, an amendment to the scope of the order to extend by 18 months the deadline otherwise applicable to Eurodif S.A. and AREVA NP Inc. (collectively, AREVA), for the re-exportation of one entry of LEU. We invited parties to comment. Based on comments submitted by the parties, the Department is making no changes to the Preliminary Results.

¹ See Low Enriched Uranium from France: Preliminary Results of Antidumping Duty Changed Circumstances Review, 77 FR 7128 (February 10, 2012) (Preliminary Results).

DATES: Effective Date: April 2, 2012.

FOR FURTHER INFORMATION CONTACT: Emily Halle or Dana Mermelstein, AD/CVD Operations, Office 6, Import Administration, International Trade Administration, U.S. Department of Commerce, 14th Street and Constitution Avenue NW., Washington, DC 20230; telephone: (202) 482-0176 or (202) 482-1391, respectively.

SUPPLEMENTARY INFORMATION:

Background

On February 13, 2002, the Department published an antidumping order on LEU from France.² The order contains a provision that excludes, from the scope of the order, LEU owned by a “foreign utility end-user and imported into the United States by or for such end-user solely for purposes of conversion by a U.S. fabricator into uranium dioxide (UO2) and/or fabrication into fuel assemblies so long as the uranium dioxide and/or fuel assemblies deemed to incorporate such imported LEU (i) remain in the possession and control of the U.S. fabricator, the foreign end-user, or their designed transporter(s) while in U.S. customs territory, and (ii) are re-exported within eighteen (18) months of entry of the LEU for consumption by the end-user in a nuclear reactor outside the United States. Such entries must be accompanied by the certifications of the importer and end user.”

² See Notice of Amended Final Determination of Sales at Less Than Fair Value and Antidumping Duty Order: Low Enriched Uranium From France, 67 FR 6680 (February 13, 2002).

As for evaluating AREVA's request, the Department published, in accordance with sections 751(b)(1) and (d)(1) of the Tariff Act of 1930, as amended (Act), and 19 CFR 351.216, the Preliminary Results, in which we determined that the evidence provided by AREVA is sufficient to establish that the circumstances of its request are extraordinary, and beyond the control of AREVA and the Japanese end-user. Therefore, we preliminarily determined that it was appropriate, for this entry only, to amend the scope of the order and to extend the deadline for the re-exportation of this sole LEU entry from 18 months to 36 months. We invited parties to comment on the Preliminary Results. On February 17, 2012, AREVA timely submitted a letter in support of the Department's Preliminary Results. On February 24, 2012, USEC Inc. and United States Enrichment Corporation (collectively, USEC), timely submitted a letter indicating that it had no objection to the Department's Preliminary Results and proposing language to be used in amending the certifications that are required to be filed with U.S. Customs and Border Protection (CBP) by parties involved in re-exportation of LEU.

Scope of the Order

The product covered by the order is all low enriched uranium (LEU). LEU is enriched uranium hexafluoride (UF6) with a U²³⁵ product assay of less than 20 percent that has not been converted into another chemical form, such as UO2, or fabricated into nuclear fuel assemblies, regardless of the means by which the LEU is produced (including LEU produced through the down-blending of highly enriched uranium).

Certain merchandise is outside the scope of the order. Specifically, the order does not cover enriched uranium hexafluoride with a U²³⁵ assay of 20 percent or greater, also known as highly enriched uranium. In addition, fabricated LEU is not covered by the scope of the order. For purposes of the order, fabricated uranium is defined as enriched uranium dioxide (UO2), whether or not contained in nuclear fuel rods or assemblies. Natural uranium concentrates (U3O8) with a U²³⁵ concentration of no greater than 0.711 percent and natural uranium concentrates converted into uranium hexafluoride with a U²³⁵ concentration of no greater than 0.711 percent are not covered by the scope of the order.

Also excluded from the order is LEU owned by a foreign utility end-user and imported into the United States by or for such end-user solely for purposes of conversion by a U.S. fabricator into uranium dioxide (UO2) and/or fabrication into fuel assemblies so long as the uranium dioxide and/or fuel assemblies deemed to incorporate such imported LEU (i) remain in the possession and control of the U.S. fabricator, the foreign end-user, or their designed transporter(s) while in U.S. customs territory, and (ii) are re-exported within eighteen (18) months of entry of the LEU for consumption by the end-user in a nuclear reactor outside the United States. Such entries must be accompanied by the certifications of the importer and end user.

The merchandise subject to this order is classified in the Harmonized Tariff Schedule of the United States (HTSUS) at subheading 2844.20.0020. Subject merchandise may also enter under 2844.20.0030, 2844.20.0050, and 2844.40.00. Although the HTSUS subheadings are provided for convenience and customs purposes, the written description of the merchandise subject to the order is dispositive.

Final Results of Changed Circumstances Review

Because no parties have submitted comments opposing the Department's Preliminary Results, and because there is no other information or evidence on the record that calls into question the Preliminary Results, the Department determines that the deadline for re-exportation of this sole entry should be extended by 18 months, to no later than November 1, 2013. AREVA and the end-user will be required to amend the certifications they provided to CBP at the time of importation, prior to the original deadline for re-exportation of this entry, i.e., May 1, 2012. In its comments, USEC proposed language for amending the certifications the Department is requiring AREVA and its end-user to provide. The Department agrees with USEC's recommendation, and will issue such instructions to CBP for implementation.

Instructions to CBP

The Department will inform CBP that the deadline for re-exportation of this single entry only is extended to November 1, 2013. The Department will instruct CBP to collect amended certifications from AREVA and its end-user by May 1, 2012.

Notification

This notice serves as a reminder to parties subject to administrative protective order (APO) of their responsibility concerning the disposition of proprietary information disclosed under APO in accordance with 19 CFR 351.306. Timely written notification of the return/destruction of APO materials or conversion to judicial protective order is hereby requested. Failure to comply with the regulations and terms of an APO is a sanctionable violation.

We are issuing and publishing these final results and notice in accordance with sections 751(b) of the Act and 19 CFR 351.216 and 351.221(c)(3).

Dated: March 26, 2012.
Paul Piquado,
Assistant Secretary for Import Administration.

[FR Doc. 2012-7868 Filed 3-30-12; 8:45 am]

BILLING CODE 3510-DS-P